DEPARTMENT OF HEALTH AND HUMAN SERVICES

Substance Abuse and Mental Health Services Administration

Single Source Cooperative Agreement Award to the Brigham and Women's Hospital, Harvard University, Boston, MA

AGENCY: Center for Mental Health Services (CMHS), Substance Abuse and Mental Health Services Administration (SAMHSA), HHS.

ACTION: Notice of intent to award a single source cooperative agreement to Brigham and Women's Hospital, Harvard University, to support a program expansion and extension for the PRISMe multisite study Coordinating Center.

SUMMARY: The Center for Mental Health Services (CMHS), Substance Abuse and Mental Health Services Administration (SAMHSA), is publishing this notice to provide information to the public concerning a planned single source cooperative agreement award in the amount of $500,000 in FY 2002, and $500,000 in FY 2003 for a project period of two years to the Brigham and Women's Hospital, Harvard University. This is not a formal request for applications. Assistance will be provided only to Brigham and Women's Hospital based on the receipt of a satisfactory application that is approved by an independent review group.

Authority/Justification: The grant will be made under the authority of Section 520A of the Public Health Service Act, as amended. The award is intended to complete data analyses and write-up of the PRISMe multisite study findings, to complete the program manuals for the PRISMe study findings, and to produce an archive of the study database suitable for public use at the end of the project period. This award is being made on a single source basis because Brigham and Women's Hospital has coordinated the design and implementation of the PRISMe multisite study from which the additional data analyses, write-ups of study findings, program manuals, and archived database will be drawn. Making the award to another entity would require additional start-up time and costs, significant loss of critical information, as well as duplication of previously completed work.

The Catalog of Federal Domestic Assistance (CFDA) number for this program is 93.243.

CONTACT: For more information about this program, contact: Betsy McDonel Herr, Ph.D., Government Project Officer, Community Support Branch, Division of Knowledge Development and Systems Change, Center for Mental Health Services (CMHS), SAMHSA, Room 11C-22 Parklawn Building, 5600 Fishers Lane, Rockville, MD 20857, (301) 594-2197, bmcdonel@samhsa.gov.

Dated: June 20, 2002.
Richard Kopanda,
Executive Officer, SAMHSA.

[FR Doc. 02-16322 Filed 6-25-02; 1:58 pm]

BILLING CODE 4162-20-P